DEPARTMENT OF THE TREASURY

Submission for OMB Review; Comment Request

June 16, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 24, 2000 to be assured of consideration.

Internal Revenue Service (IRS)

OMB Number: 1545-0771.

Regulation Project Number: EE-63-88 Final and Temporary; IA-140-86 Temporary; and REG-209785-95 Final.

Type of Review: Extension.

Title: Taxation of Fringe Benefits and Exclusions from Gross Income for Certain Fringe Benefits (EE-63-88); Fringe Benefits; Listed Property (IA-140-86); and Substantiation of Business Expenses (REG-209785-95).

Description: EE-63-88: This regulation provides guidance on the tax treatment of taxable and nontaxable fringe benefits and general and specific rules for the valuation of taxable fringe benefits in accordance with Code sections 61 and 132. The regulation also provides guidance on exclusions from gross income for certain fringe benefits.

IA-140-86: This regulation provides guidance relating to the requirement that any deduction or credit with respect to business travel, entertainment, and gift expenses be substantiated with adequate records in accordance with Code section 274(d). The regulation also provides guidance on the taxation of fringe benefits and clarifies the types of records that are generally necessary to substantiate any deduction or credit for listed property.

REG-209785-95: This regulation provides that taxpayers who deduct, or reimburse employees for, business expenses for travel, entertainment, gifts, or listed property are required to maintain certain records, including receipts, for expenses of $75 or more. The regulation amends existing regulations by raising the receipt threshold from $25 to $75.

Respondents: Business or other for-profit, Individuals or households, Not-for-profit institutions, Farms, Federal Government, State, Local or Tribal Government.

Estimated Number of Respondents/Recordkeepers: 28,582,150.

Estimated Burden Hours Per Respondent/Recordkeeper: 1 hr., 18 min.

Frequency of Response: On occasion.

Estimated Total Reporting/Recordkeeping Burden: 37,922,688 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Mary A. Able,
Departmental Reports Management Officer.

[FR Doc. 00-15879 Filed 6-22-00; 8:45 am]

BILLING CODE 4830-01-P